DEPARTMENT OF DEFENSE

Office of the Secretary

[Transmittal No. 25-0P]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0P.

Dated: January 21, 2026.
Stephanie J. Bost,
Alternate OSD Federal Register Liaison Officer, Department of Defense.

BILLING CODE 6001-FR-P

BILLING CODE 6001-FR-C

Transmittal No. 25-0P

REPORT OF ENHANCEMENT OR UPGRADE OF SENSITIVITY OF TECHNOLOGY OR CAPABILITY (SEC. 36(B)(5)(C) AECA)

(i) Prospective Purchaser: Government of Canada

(ii) Sec. 36(b)(1), AECA Transmittal No.: 23-72

Date: September 15, 2023

Implementing Agency: Air Force

(iii) Description: On September 15, 2023, Congress was notified by congressional certification transmittal number 23-72 of the possible sale, under Section 36(b)(1) of the Arms Export Control Act, of munitions and other systems to be integrated into MQ-9Bs purchased through Direct Commercial Sales, to include: twelve (12) AN/APY-8 Lynx Synthetic Aperture radars; two hundred nineteen (219) AGM-114R2 Hellfire II missiles; eighteen (18) KMU-572 tail kits for the GBU-38 Joint Direct-Attack Munition (JDAM) and GBU-54 Laser JDAM (LJDAM); twelve (12) Mk82 500-lb General Purpose (GP) bombs; and six (6) Mk82 Filled Inert bombs. Also included were Due Regard Radars; SAGE 750 and SNC 4500 Electronic Surveillance Measures Systems; AN/ARC-210 radios; Compact Multi-Band Data Link (CMDL); KY-100M Narrowband/Wideband Terminals; KOR-24A Small Tactical Terminals; High-Bandwidth Compact Telemetry Modules (HCTM); KIV-77 cryptographic appliques and other Identification Friend or Foe (IFF) equipment; AN/PYQ-10C Simple Key Loaders (SKL); Common Munitions Built-In-Test/Reprogramming Equipment (CMBRE); FMU-139 Joint Programmable Fuses (JPF); M299 Hellfire launchers and training missiles; DSU-38 Precision Laser Guidance Sets; classified publications and technical documentation; munitions support and support equipment; secure communications, precision navigation, and cryptographic equipment; spare and repair parts, consumables, accessories, and repair and return support; unclassified software delivery and support; testing and integration support and equipment; maps and charts; personnel training and training equipment; transportation support; warranties; studies and surveys; Contractor Logistics Support (CLS); United States (U.S.) Government and contractor engineering, technical, and logistics support services; and other related elements of logistics and program support. The estimated total cost was $313.4 million. Major Defense Equipment (MDE) constituted $75.2 million of this total.

This transmittal notifies the inclusion of the following additional MDE items: sixteen (16) Joint Direct Attack Munition (JDAM) KMU-572 tail kits for GBU-38 or Laser JDAM GBU-54; eighteen (18) inert filled Mk-82 bombs; four (4) AN/APY-8 Lynx synthetic aperture radars; and eight (8) Hellfire Captive Air Training Missiles. The following non-MDE items will also be included: M34 Hellfire training missiles; Hellfire support equipment; AN/ALQ-230 Radar Warning Receiver/Electronic Support Measures (RWR/ESM) system; Computer Program Identification Numbers (CPIN); minor and major modifications and kits; aircraft and engine support equipment; and other related elements of logistics and program support. The estimated total value of the new items is $149 million. The estimated MDE value will increase by $27 million. The estimated non-MDE value will increase by $122 million to a revised $360.2 million. The estimated total case value will increase by $149 million to a revised $462.4 million. MDE constitutes $101.2 million of this total.

(iv) Significance: This notification is being provided because the additional MDE items were not enumerated in the original notification. The inclusion of this MDE represents an increase in capability over what was previously notified.

(v) Justification: This proposed sale will support the foreign policy and national security objectives of the U.S. by helping to improve the military capability of Canada, a NATO Ally that is an important force for ensuring political stability and economic progress, and a contributor to military, peacekeeping, and humanitarian operations around the world.

(vi) Sensitivity of Technology:

The Sensitivity of Technology statement contained in the original notification applies to items reported here.

The highest level of classification of defense articles, components, and services included in this potential sale is SECRET.

(vii) Date Report Delivered to Congress: June 10, 2025

[FR Doc. 2026-01338 Filed 1-23-26; 8:45 am]

BILLING CODE 6001-FR-P